DEPARTMENT OF THE INTERIOR

Fish and Wildlife Service

[FWS-R6-R-2008-N0143; 60138-1265-6CCP-S3]

Pathfinder National Wildlife Refuge, Alcova, WY; Correction

AGENCY: Fish and Wildlife Service, Interior.

ACTION: Notice of availability: Draft comprehensive conservation plan and environmental assessment; request for comment; correction.

SUMMARY: We, the U.S. Fish and Wildlife Service, recently published a notice in error requesting comments on a draft Comprehensive Conservation Plan (CCP) and associated Environmental Assessment (EA) that are not yet available for comment. We will republish a notice and request for comment when these documents become available.

FOR FURTHER INFORMATION CONTACT: Toni Griffin, Toni_Griffin@fws.gov or (303) 236-4378, or John Esperance, John_Esperance@fws.gov or (303) 236-4369.

SUPPLEMENTARY INFORMATION: On June 16, 2008, we published a Federal Register notice (73 FR 34034) in error. The notice announced the availability for public review and comment of a draft CCP and EA, which would describe how we intend to manage Pathfinder National Wildlife Refuge for the next 15 years. Because the draft CCP and EA are not yet available for comment, we announce now that we will republish a notice and request for comment when the draft CCP and EA become available. We will accept comments at that time.

Dated: June 17, 2008.
Sara Prigan,
Federal Register Liaison.

[FR Doc. E8-14270 Filed 6-23-08; 8:45 am]

BILLING CODE 4310-55-P